DEPARTMENT OF ENERGY

Federal Energy Regulatory Commission

[Docket Nos. EL08-66-000, etc.]

Ashland Windfarm, LLC, et al.; Notice of Filing

June 5, 2008.

Notice of Filing

| Docket Nos.
Ashland Windfarm, LLC | EL08-66-000
Asian Children Support, Inc. | QF08-475-001
Bangladesh Children Support, Inc | QF08-476-001
Bobilli Blind School Support, Inc | QF08-477-001
Brandon Windfarm, LLC | QF08-478-001
BT, LLC (Unit 1) | QF08-479-001
BT, LLC (Unit II) | QF08-480-001
Burmese Children Support, Inc | QF08-481-001
Elsinore Wind, LLC | QF08-482-001
G. McNeilus, LLC (Unit I) | QF08-483-001
G. McNeilus, LLC (Unit II) | QF08-484-001
GarMar Foundation (Unit I) | QF08-486-001
GarMar Foundation (Unit II) | QF08-487-001
GarMar Wind I, LLC (Unit I) | QF08-488-001
GarMar Wind, I LLC (Unit II) | QF08-489-001
GarMar Wind, I LLC (Unit III) | QF08-491-001
GarWind, LLC | QF08-490-001
GM, LLC (Unit I) | QF08-492-001
GM, LLC (Unit II) | QF08-493-001
GM, LLC (Unit III) | QF08-494-001
Grant Windfarm, LLC | QF08-563-001
Henslin Creek Windfarm, LLC | QF08-495-001
Indian Children Support, Inc | QF08-496-001
K&K Wind Enterprises, LLC | QF08-497-001
McNeilus Windfarm, LLC (Unit I) | QF08-498-001
McNeilus Windfarm, LLC (Unit II) | QF08-499-001
Rose Creek Wind, LLC | QF08-500-001
Salvadoran Children Support | QF08-501-001
SF Wind Enterprises, LLC | QF08-502-001
SG, LLC | QF08-503-001
Triton Windfarm, LLC | QF08-504-001
Wasioja Wind, LLC | QF08-505-001
Wilhelm Wind, LLC | QF08-506-001
Zumbro Windfarm, LLC | QF08-507-001
GM Transmission, LLC | QF08-508-001

Take notice that on May 29, 2008, Ashland Windfarm, et al., filed a petition for declaratory order for a limited waiver from the qualifying facility filing requirements of section 292.203(a)(3) of the Commission's regulations for the period from April 15, 2006 to April 11, 2008 and May 15, 2008, with respect to GM, LLC (Unit III).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on June 30, 2008.

Kimberly D. Bose,
Secretary.

[FR Doc. E8-13254 Filed 6-12-08; 8:45 am]

BILLING CODE 6717-01-P